NATIONAL SCIENCE FOUNDATION

NSF-NASA National Astronomy and Astrophysics Advisory Committee; Notice of Meeting

In accordance with the Federal Advisory Committee Act (Pub. L. 92-463, as amended), the National Science Foundation announces the following meeting:

Name: NSF-NASA National Astronomy & Astrophysics Advisory Committee (#13883).

Date and Time: October 2 & 3, 2002, 8 am-5 pm.

Place: National Science Foundation, 4201 Wilson Blvd., Arlington, VA 22230.

Type of Meeting: Open.

Contact Person: Dr. G. Wayne Van Citters, Director, Division of Astronomical Sciences, Suite 1045, National Science Foundation, 4201 Wilson Blvd., Arlington, VA 22230. Telephone: 703-292-4908. If you are attending the meeting and need access to the NSF building please contact Mary Lou Renninger at 703-292-8820 so that your name may be added to the building access list.

Purpose of Meeting: To provide advice and recommendations to the National Science Foundation (NSF) and the National Aeronautics and Space Administration (NASA) on issues within the field of astronomy and astrophysics that are of mutual interest and concern to the two agencies.

Agenda: To hear presentations of current programming by representatives from NSF and NASA; to discuss current and potential areas of cooperation between the two agencies; to formulate recommendations for continued and new areas of cooperation and mechanisms for achieving them.

Dated: September 10, 2002.
Susanne E. Bolton,
Committee Management Officer.

[FR Doc. 02-23483 Filed 9-13-02; 8:45 am]

BILLING CODE 7555-01-M